DEPARTMENT OF COMMERCE

Census Bureau

Proposed Information Collection; Comment Request; Government Units Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 27, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Debra Coaxum, Chief, Sampling Frame Research and Development Branch, Governments Division, U.S. Census Bureau, Washington, DC 20233 (or via the Internet at Debra.L.Coaxum@census.gov).

SUPPLEMENTARY INFORMATION:

I. Abstract

The U.S. Census Bureau plans to request approval of the 2011 Government Units Survey data collection form. The Government Units Survey (GUS) is the directory survey for the 2012 Census of Governments. The survey has the following purposes: (1) To produce the official count of local government units in the United States; (2) To obtain descriptive information on the basic characteristics of governments; (3) To identify and delete inactive units; (4) To identify file duplicates and units that were dependent on other governments; and (5) To update and verify the mailing addresses of governments.

In 2007, the Government Organization form was mailed to special districts only. The form (G-30) collected only basic information on the governing board, authorizing legislation, the Web address, agency activity, and employment and payroll data. The employment and payroll data were used in lieu of a response to the March 2007 Census of Governments: Employment for special district governments.

For 2012, the GUS collects more data and will be mailed out to municipalities, townships, counties, and special districts. The GUS contains nine broad content areas: Background information, debt, license and permit fees, taxes, retirement/pension plan, government activity, public services, judicial or legal activities, and finance. The first eight content areas consist predominantly of yes/no questions and are designed to collect information on general characteristics of the government. The finance section of the questionnaire requests four numerical values on payroll, expenditures, revenue, and debt.

Two GUS forms are currently being pretested using a split panel design to study the effects of using headers to inform the respondent of section content versus a form with no section segmentation. The final questionnaire will be determined pending the results of the split panel design analysis.

II. Method of Collection

Each of the estimated 76,500 non-school governments will be sent a form. Respondents will be asked to verify their existence, correct name and address information, answer questions on the form, and return it. Both a paper collection instrument and a Web collection instrument will be available for respondents to use beginning October 11, 2011.

III. Data

OMB Control Number: 0607-0930.

Form Number: Not available at this time.

Type of Review: Regular submission.

Affected Public: County, municipality, township, and special district governments.

Estimated Number of Respondents: 76,500.

Estimated Time per Response: 0.67 hours.

Estimated Total Annual Burden Hours: 51,255.

Estimated Total Annual Cost: $1,242,934.

Respondent's Obligation: Voluntary.

Legal Authority: Title 13 U.S.C. Section 161.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 21, 2011.
Gwellnar Banks,
Management Analyst, Office of the Chief Information Officer.

[FR Doc. 2011-10068 Filed 4-26-11; 8:45 am]

BILLING CODE 3510-07-P